DEPARTMENT OF JUSTICE

Drug Enforcement Administration

Graham Travers Schuler, M.D.; Denial of Application

On November 19, 1999, the Deputy Assistant Administrator, Office of Diversion Control, Drug Enforcement Administration (DEA), issued an Order to Show Cause to Graham Travers Schuler, M.D., of Bloomington, Indiana. The Order to Show Cause notified him of an opportunity to show cause as to why DEA should not deny his application for a DEA Certificate of Registration pursuant to 21 U.S.C. 823(f) and 824(a)(3) and (a)(4), for reason that his state controlled substance registration was denied and that his registration would be inconsistent with the public interest. The order also notified Dr. Schuler that should no request for a hearing be filed within 30 days, his hearing right would be deemed waived.

The Order to Show Cause was sent to the address listed on Dr. Schuler's application for registration. DEA received a return receipt indicating that an individual signed for the Order to Show Cause on December 1, 1999. No request for a hearing or any other reply was received from Dr. Schuler or anyone purporting to represent him in this matter. Therefore, the Administrator, finding that (1) 30 days have passed since the receipt of the Order to Show Cause, and (2) no request for a hearing having been received, concludes that Dr. Schuler is deemed to have waived his hearing right. After considering material from the investigative file in this matter, the Administrator now enters his final order without a hearing pursuant to 21 CFR 1301.43(d) and (e) and 1301.46.

The Administrator finds that Dr. Schuler submitted an application for registration with DEA at an address in Bloomington, Indiana. The Administrator further finds that on or about September 18, 1999, the Controlled Substance Advisory Committee and the Indiana Board of Pharmacy issued a Final Order denying Dr. Schuler's application for a controlled substance registration. Dr. Schuler did not present any evidence that he has since granted an Indiana controlled substance registration. Therefore, the Administrator finds that Dr. Schuler is not currently authorized to handle controlled substances in the State of Indiana.

The DEA does not have the statutory authority under the Controlled Substance Act to issue or maintain a registration if the applicant or registrant is without state authority to handle controlled substances in the state in which he conducts his business. See 21 U.S.C. 802(21), 823(f) and 824(a)(3). This prerequisite has been consistently upheld. See Romeo J. Perez, M.D., 62 FR 16193 (1997); Demetris A. Green, M.D., 61 FR 60728 (1996); Dominick A. Ricci, M.D., 58 FR 51104 (1993).

Here it is undisputed that Dr. Schuler is not currently authorized to handle controlled substances in the State of Indiana. As a result, he is not entitled to a DEA registration in that state.

Since DEA does not have the statutory authority to issue Dr. Schuler a DEA registration because he is not currently authorized to handle controlled substances in Indiana, the Administrator concludes that it is unnecessary to determine whether Dr. Schuler's application should be denied because his registration would be inconsistent with the public interest.

Accordingly, the Administrator of the Drug Enforcement Administration, pursuant to the authority vested in him by 21 U.S.C. 823 and 824 and 28 CFR 0.100(b), hereby orders that the application for registration submitted by Graham Travers Schuler, M.D., be, and it hereby is, denied. This order is effective September 18, 2000.

Dated: August 3, 2000.
Donnie R. Marshall,
Administrator.

[FR Doc. 00-21004 Filed 8-17-00; 8:45 am]

BILLING CODE 4410-09-M